DEPARTMENT OF TRANSPORTATION

Federal Aviation Administration

14 CFR Part 39

[Docket No. FAA-2009-0649; Directorate Identifier 2008-NM-218-AD; Amendment 39-16225; AD 2010-06-01]

RIN 2120-AA64

Airworthiness Directives; Airbus Model A319, A320, and A321 Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

Two incidents [of near mid-air collision] have occurred on Airbus A320 Family aircraft during [a] Resolution Advisory with Traffic Alert and Collision Avoidance System (TCAS). One of the Human-Machine Interface (HMI) factors was the lack of visibility of relevant information on the Primary Flight Display (PFD).

This condition, if not corrected, could result in erroneous interpretation of TCAS Resolution Advisories, leading to an increased risk of mid-air collision.

* * * * *

We are issuing this AD to require actions to correct the unsafe condition on these products.

DATES: This AD becomes effective April 15, 2010.

The Director of the Federal Register approved the incorporation by reference of a certain publication listed in this AD as of April 15, 2010.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Tim Dulin, Aerospace Engineer, International Branch, ANM-116, Transport Airplane Directorate, FAA, 1601 Lind Avenue, SW., Renton, Washington 98057-3356; telephone (425) 227-2141; fax (425) 227-1149.

SUPPLEMENTARY INFORMATION:

Discussion

We issued a notice of proposed rulemaking (NPRM) to amend 14 CFR part 39 to include an AD that would apply to the specified products. That NPRM was published in the Federal Register on July 15, 2009 (74 FR 34274). That NPRM proposed to correct an unsafe condition for the specified products. The MCAI states:

Two incidents [of near mid-air collision] have occurred on Airbus A320 Family aircraft during [a] Resolution Advisory with Traffic Alert and Collision Avoidance System (TCAS). One of the Human-Machine Interface (HMI) factors was the lack of visibility of relevant information on the Primary Flight Display (PFD).

This condition, if not corrected, could result in erroneous interpretation of TCAS Resolution Advisories, leading to an increased risk of mid-air collision.

EIS1 [Electronic Instrument System] software standard V60 introduces modifications to the vertical speed indication to further improve the legibility in the case of TCAS Resolution Advisory. This modification consists of a change in the needle colour and thickness and an increase in width of the TCAS green band.

For the reasons described above, this AD requires the introduction of the new software standard V60 and prohibits reinstallation of earlier software versions V32, V40 and V50.

You may obtain further information by examining the MCAI in the AD docket.

Comments

We gave the public the opportunity to participate in developing this AD. We considered the comments received.

Support for the NPRM

Air Line Pilots Association (ALPA), International, supports the intent of the AD.

Request To Shorten the Proposed Compliance Time

ALPA states that the proposed 60-month compliance time is excessive, given that Airbus Mandatory Service Bulletin A320-31-1286 was issued in January, 2008. Based on the safety benefits of the AD as well as the minimal labor required to comply with the AD, ALPA recommends a 12-month compliance time. ALPA further states that a 12-month requirement would be the same as a similar AD for the EIS2 (AD 2009-23-05, Amendment 39-16077, 74 FR 57578, November 9, 2009).

We disagree with the request to reduce the proposed compliance time. In developing the proposed compliance time, we considered the scope of work, the safety implications, the average utilization rate of the affected fleet, the maintenance schedules of the operators, and the availability of required modification parts. In addition, this AD which requires modification of the EIS1 has a longer compliance time, versus that for AD 2009-23-05 which requires modification of the EIS2, because the EIS1 modification specified in this AD includes a requirement to reprogram the erasable programmable read only memory (EPROM) (for certain configurations) in addition to replacing or reprogramming the on-board replaceable module (OBRM) required by both ADs. We have not changed the AD in this regard.

Request To Change the Proposed Costs of Compliance

Air Transport Association (ATA), on behalf of its member Northwest Airlines (NWA), states that the estimated costs of compliance in the NPRM are inaccurate, and that the software will cost $14,460 per airplane ($4,820 for each of the 3 display management computers (DMC) per airplane).

We agree. We have verified these cost figures and have revised the Costs of Compliance section of this AD accordingly.

Request To Include Later Software Revisions

ATA, on behalf of NWA, requests that we revise the NPRM to allow installation of subsequent revision levels of the EIS1 software. NWA states that it understands that Airbus is working on a new DMC standard (version 70) as an upgrade to the version 60 referred to in the NPRM, and that the safety concerns given in the NPRM are with prior versions of the software (versions 32, 40, and 50).

We do not agree to revise the NPRM to allow later versions of software in the AD. We cannot allow installation of later software versions that have not yet been approved in an AD. However, under the provisions of paragraph (g)(1) of the final rule, we will consider requests for approval of an alternative method of compliance if sufficient data are submitted to substantiate that the new compliance method would provide an acceptable level of safety. We have not changed the AD in this regard.

Conclusion

We reviewed the available data, including the comments received, and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Explanation of Change to Costs of Compliance

Since issuance of the NPRM, we have increased the labor rate used in the Costs of Compliance from $80 per work-hour to $85 per work-hour. The Costs of Compliance information, below, reflects this increase in the specified hourly labor rate.

Costs of Compliance

We estimate that this AD will affect about 564 products of U.S. registry. We also estimate that it will take about 4 work-hours per product to comply with the basic requirements of this AD. The average labor rate is $85 per work-hour. Required parts will cost about $14,460 per product. Where the service information lists required parts costs that are covered under warranty, we have assumed that there will be no charge for these parts. As we do not control warranty coverage for affected parties, some parties may incur costs higher than estimated here. Based on these figures, we estimate the cost of this AD to the U.S. operators to be $8,347,200, or $14,800 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-06-01 Airbus: Amendment 39-16225. Docket No. FAA-2009-0649; Directorate Identifier 2008-NM-218-AD.

Effective Date

(a) This airworthiness directive (AD) becomes effective April 15, 2010.

Affected ADs

(b) None.

Applicability

(c) This AD applies to Airbus Model A319-111, -112, -113, -114, -115, -131, -132, and -133 airplanes; Model A320-111, -211, -212, -214, -231, -232, and -233 airplanes; and Model A321-111, -112, -131, -211, -212, -213, -231, and -232 airplanes; certificated in any category; all manufacturer serial numbers (MSN); equipped with electronic instrument system 1 (EIS1) standard V32 (display management computer (DMC)) part number (P/N) 9615325032), EIS1 standard V40 (DMC P/N 9615325040), or EIS1 standard V50 (DMC P/N 9615325050).

Subject

(d) Air Transport Association (ATA) of America Code 31: Instruments.

Reason

(e) The mandatory continuing airworthiness information (MCAI) states:

“Two incidents [of near mid-air collision] have occurred on Airbus A320 Family aircraft during [a] Resolution Advisory with Traffic Alert and Collision Avoidance System (TCAS). One of the Human-Machine Interface (HMI) factors was the lack of visibility of relevant information on the Primary Flight Display (PFD).

“This condition, if not corrected, could result in erroneous interpretation of TCAS Resolution Advisories, leading to an increased risk of mid-air collision.

“EIS1 software standard V60 introduces modifications to the vertical speed indication to further improve the legibility in the case of TCAS Resolution Advisory. This modification consists of a change in the needle colour and thickness and an increase in width of the TCAS green band.

“For the reasons described above, this AD requires the introduction of the new software standard V60 and prohibits reinstallation of earlier software versions V32, V40 and V50.”

Actions and Compliance

(f) Unless already done, do the following actions:

(1) Within 60 months after the effective date of this AD, modify the airplane by installing EIS1 software standard V60 (DMC P/N 9615325060), in accordance with the instructions of Airbus Mandatory Service Bulletin A320-31-1286, dated January 22, 2008.

(2) After modifying the airplane as required by paragraph (f)(1) of this AD, no person shall install EIS1 software standard V32 (DMC P/N 9615325032), EIS1 software standard V40 (DMC P/N 9615325040), or EIS1 software standard V50 (DMC P/N 9615325050) on that airplane.

FAA AD Differences

Note 1: This AD differs from the MCAI and/or service information as follows: No differences.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to Attn: Tim Dulin, Aerospace Engineer, International Branch, ANM-116, Transport Airplane Directorate, FAA, 1601 Lind Avenue, SW., Renton, Washington 98057-3356; telephone (425) 227-2141; fax (425) 227-1149. Before using any approved AMOC on any airplane to which the AMOC applies, notify your principal maintenance inspector (PMI) or principal avionics inspector (PAI), as appropriate, or lacking a principal inspector, your local Flight Standards District Office.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq., the Office of Management and Budget (OMB) has approved the information collection requirements and has assigned OMB Control Number 2120-0056.

Related Information

(h) Refer to MCAI European Aviation Safety Agency Airworthiness Directive 2008-0198, dated November 4, 2008; and Airbus Mandatory Service Bulletin A320-31-1286, dated January 22, 2008; for related information.

Material Incorporated by Reference

(i) You must use Airbus Mandatory Service Bulletin A320-31-1286, dated January 22, 2008, to do the actions required by this AD, unless the AD specifies otherwise.

(1) The Director of the Federal Register approved the incorporation by reference of this service information under 5 U.S.C. 552(a) and 1 CFR part 51.

(2) For service information identified in this AD, contact Airbus, Airworthiness Office—EAS, 1 Rond Point Maurice Bellonte, 31707 Blagnac Cedex, France; telephone +33 5 61 93 36 96; fax +33 5 61 93 44 51; e-mail: account.airworth-eas@airbus.com; Internet http://www.airbus.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on February 25, 2010.
Jeffrey E. Duven,
Acting Manager, Transport Airplane Directorate, Aircraft Certification Service.

[FR Doc. 2010-4876 Filed 3-10-10; 8:45 am]

BILLING CODE 4910-13-P